ENVIRONMENTAL PROTECTION AGENCY

[EPA-HQ-OPP-2006-0955; FRL-8438-6]

Rodenticides; Product Cancellation Order

AGENCY: Environmental Protection Agency (EPA).

ACTION: Notice.

SUMMARY: This notice announces EPA's order for the cancellation of registrations, voluntarily requested by the registrants and accepted by the Agency, of certain rodenticide products containing the pesticides bromadiolone, bromethalin, cholecalciferol, diphacinone (and its sodium salt), warfarin (and its sodium salt), and zinc phosphide, pursuant to section 6(f)(1) of the Federal Insecticide, Fungicide, and Rodenticide Act (FIFRA), as amended. This cancellation order follows a December 24, 2008 Federal Register Notice of Receipt of Requests from several registrants to voluntarily cancel certain bromadiolone, bromethalin, cholecalciferol, diphacinone (and its sodium salt), warfarin (and its sodium salt), and zinc phosphide product registrations. These are not the last bromadiolone, bromethalin, cholecalciferol, diphacinone (and its sodium salt), warfarin (and its sodium salt), and zinc phosphide products registered for use in the United States. In the December 24, 2008 notice, EPA indicated that it would issue an order cancelling the products unless the Agency received substantive comments within the 180-day comment period that would merit its further review of these requests, or unless the registrants withdrew their requests within this period. The Agency did not receive any comments on the notice. Further, the registrants did not withdraw their requests. Accordingly, EPA hereby issues in this notice a cancellation order granting the requested cancellations. Any distribution, sale, or use of the bromadiolone, bromethalin, cholecalciferol, diphacinone (and its sodium salt), warfarin (and its sodium salt), and zinc phosphide products subject to this cancellation order is permitted only in accordance with the terms of this order, including any existing stocks provisions.

DATES: The cancellations are effective September 30, 2009.

FOR FURTHER INFORMATION CONTACT: Rusty Wasem, Pesticide Re-evaluation Division, Office of Pesticide Programs, Environmental Protection Agency, 1200 Pennsylvania Ave., NW., Washington, DC 20460-0001; telephone number: 703-305-6979; fax number: 703-308-7070; e-mail address: wasem.russell@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2006-0955. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is 703-305-5805.

2. Electronic access. You may access this Federal Register document electronically through the EPA Internet under the “Federal Register” listings at http://www.epa.gov/fedrgstr.

II. What Action is the Agency Taking?

This notice announces the cancellation, as requested by registrants, of certain end-use and manufacturing-use rodenticide products registered under section 3 of FIFRA. These registrations are listed by registration number in Table 1 of this unit.

Table 1.—Rodenticide Product Cancellations
EPA Registration Number | Product Name
Cholecalciferol (PC Code 202901)
3240-28 | Rampage Mouse Seed
3240-42 | Rampage Rat & Mouse Bait
12455-57 | Quintox Mouse Seed
Bromadiolone (PC Code 112001)
12455-68 | Contrac Mouse Bait Station
12455-103 | Contrac Bait Trays
12455-104 | Contract Mouse Control Kit
Bromethalin (PC Code 112802)
12455-100 | Fastrac Mouse Seed Place Pac
47629-10 | Bromethalin Manufacturing Concentrate
Diphacinone (PC Code 067701)
3487-26 | Eagles-14 Diphacinone Rat Bait
11885-12 | Master Mix Blue Death-D Rat & Mouse Bait
11885-15 | Master Mix Blue Death-D Rat & Mouse Hide-A-Pack
12455-67 | Ditrac Mouse Bait Station
Diphacinone, Sodium Salt (PC Code 067705)
3240-17 | Motomco Water Soluble Diphacinone Rodenticide Concentrate Kills Rats & Mice
Warfarin (PC Code 086002)
3487-19 | Eagles-7 Rat Bait
5887-51 | Black Leaf Warf Pellets
5887-98 | Black Leaf Warf Pellets Mouse Killer
12455-15 | Warfarin Rat and Mouse Bait
62577-7 | Echols Mouse & Rat Pellets
72500-7 | Kaput Mouse Blocks
Warfarin, Sodium Salt (PC Code 086003)
12455-22 | Liqua-Tox Liquid Concentrate
Zinc Phosphide (PC Code 088601)
12455-59 | ZP Rodent Bait Place Pac
12455-85 | Mole and Gopher Bait

Table 2 of this unit includes the names and addresses of record for all registrants of the products in Table 1 of this unit, in ascending order sequence by EPA company number.

Table 2.—Registrants of Cancelled Rodenticide Products
EPA Company Number | Company Name and Address
3240 | Motomco Ltd. 3699 Kinsman Blvd. Madison, WI 53704
3487 | Bacon Products Corp. P.O. Box 22187 Chattanooga, TN 37422
5887 | Value Gardens Supply LLC 9100 W. Bloomington Fwy. Ste. 113 Bloomington, MN 55431
11185 | ADM Alliance Nutrition, Inc. P.O. Box C1 Quincy, IL 62305
12455 | Bell Laboratories 3699 Kinsman Blvd. Madison, WI 53704
47629 | Woodstream Corp. 69 N. Locust St. P.O. Box 324 Lititz, PA 17543
62577 | Kittrich Corporation 4940 Top Line Dr. Dallas, TX 75247
72500 | Scimetrics Ltd. Corp. c/o Regwest Co. LLC 30856 Rocky Rd. Greeley, CO 80631

III. Summary of Public Comments Received and Agency Response to Comments

During the public comment period provided, EPA received no comments in response to the December 24, 2008 Federal Register notice (73 FR 79104) (FRL-8394-5) announcing the Agency's receipt of the requests for voluntary cancellations of certain rodenticide products.

IV. Cancellation Order

Pursuant to FIFRA section 6(f), EPA hereby approves the requested cancellations of rodenticide registrations identified in Table 1. Accordingly, the Agency orders that the rodenticide product registrations identified in Table 1 are hereby cancelled effective June 4, 2011. Any distribution, sale, or use of the cancelled products inconsistent with the Provisions for Disposition of Existing Stocks set forth in Unit VI. will be considered a violation of FIFRA.

V. What is the Agency's Authority for Taking this Action?

Section 6(f)(1) of FIFRA provides that a registrant of a pesticide product may at any time request that any of its pesticide registrations be cancelled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this notice includes the following existing stocks provisions.

The cancellation of products identified in Table 1 is effective June 4, 2011. The registrants of these products may continue to produce, sell and distribute the rodenticide products identified in Table 1 until the cancellation date of June 4, 2011. After June 4, 2011, registrants may no longer distribute or sell new or existing stocks of products listed in Table 1. After June 4, 2011, persons other than the registrants may distribute, sell or use existing stocks of the products listed in Table 1 until such existing stocks are depleted.

List of Subjects

Environmental protection, Pesticides and pests.

Dated: September 18, 2009.
Richard P. Keigwin, Jr.
Director, Pesticide Re-evaluation Division, Office of Pesticide Programs.

[FR Doc. E9-23452 Filed 9-29-09; 8:45 am]

BILLING CODE 6560-50-S